DEPARTMENT OF COMMERCE

National Oceanic and Atmospheric Administration

RIN 0648-XT21

Marine Mammals; File No. 555-1870

AGENCY: National Marine Fisheries Service (NMFS), National Oceanic and Atmospheric Administration (NOAA), Commerce.

ACTION: Notice; receipt of application for permit amendment.

SUMMARY: Notice is hereby given that James T. Harvey, Ph.D., Moss Landing Marine Laboratories, 8272 Moss Landing Road, Moss Landing, CA 95039, has applied for an amendment to Scientific Research Permit No. 555-1870-00.

DATES: Written, telefaxed, or e-mail comments must be received on or before January 7, 2010.

ADDRESSES: The application and related documents are available for review by selecting “Records Open for Public Comment” from the Features box on the Applications and Permits for Protected Species home page, https://apps.nmfs.noaa.gov, and then selecting File No. 555-1870 from the list of available applications.

These documents are also available upon written request or by appointment in the following offices:

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

Written comments on this application should be submitted to the Chief, Permits, Conservation and Education Division, at the address listed above. Comments may also be submitted by facsimile to (301)713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Amy Sloan or Tammy Adams, (301)713-2289.

SUPPLEMENTARY INFORMATION: The subject amendment to Permit No. 555-1870-00 is requested under the authority of the Marine Mammal Protection Act of 1972, as amended (16 U.S.C. 1361 et seq.), and the regulations governing the taking and importing of marine mammals (50 CFR part 216).

Permit No. 555-1870-00, issued on April 10, 2007(74 FR 19469), authorizes the permit holder to conduct research on the biology and ecology of harbor seals (Phoca vitulina) in California, Oregon, Washington, and Alaska. Researchers are authorized to capture, handle, flipper tag, instrument, and biologically sample (blood, skin, hair, swabs, lavage/enema) 670 harbor seals annually; an additional 2,910 seals may be taken by incidental disturbance during capture, scat collection, experimental harassment, and exposure to playback of vocalizations annually. Of those animals captured, 140 may have surgical procedures conducted to implant subcutaneous radio transmitters. Up to two incidental mortalities per year are authorized. California sea lions and northern elephant seals are authorized to be incidentally harassed during research activities.

The permit holder is requesting the permit be amended to include authorization for increasing the number of harbor seal pups of both sexes captured in California from 40 animals (20 of each sex) to 70 (35 of each sex) annually to allow for a more robust survival estimate model. The applicant also proposes to bring a subset of harbor seals captured in California (seals one year or older of either sex excluding pregnant or lactating females) into temporary captivity in quarantine at The Marine Mammal Center (Sausalito, California) to conduct trials to modify the currently permitted sedation and surgical protocols for subcutaneous implantation of radio transmitters. The purposes of these modifications are to (1) minimize the amount of time needed for surgery; and (2) test three different tag types and a revised suture protocol to improve tag retention. The amendment would be valid through the expiration date on April 15, 2012.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: December 2, 2009.
Tammy C. Adams,
Acting Chief, Permits, Conservation and Education Division, Office of Protected Resources, National Marine Fisheries Service.

[FR Doc. E9-29259 Filed 12-7-09; 8:45 am]

BILLING CODE 3510-22-S